DEPARTMENT OF DEFENSE

Defense Acquisition Regulations System

48 CFR Part 252

[Docket DARS-2020-0001]

Defense Federal Acquisition Regulation Supplement: Technical Amendment; Correction

AGENCY: Defense Acquisition Regulations System, Department of Defense (DoD).

ACTION: Correcting amendment.

SUMMARY: DoD is correcting final regulations that published in the Federal Register on April 8, 2020, to reflect that the clause date for the DFARS section on duty-free entry should be “(APR 2020)”.

DATES: Effective June 5, 2020.

FOR FURTHER INFORMATION CONTACT: Ms. Jennifer L. Hawes, Defense Acquisition Regulations System, OUSD(A&S)DPC(DARS), Room 3B941, 3060 Defense Pentagon, Washington, DC 20301-3060. Telephone 571-372-6115; facsimile 571-372-6094.

SUPPLEMENTARY INFORMATION: On April 8, 2020, DoD published in the Federal Register at 85 FR 19681 a final rule titled “Technical Amendments”. The purpose of this correction is to reflect that the clause date for DFARS 252.225-7013, Duty-Free Entry, should be “(APR 2020)” and not “(MAR 2020)” as published in the technical amendment.

List of Subjects in 48 CFR Part 252

Government procurement.

Jennifer Lee Hawes,
Regulatory Control Officer, Defense Acquisition Regulations System.

Therefore, 48 CFR part 252 is amended as follows:

PART 252—SOLICITATION PROVISIONS AND CONTRACT CLAUSES

1. The authority citation for 48 CFR part 252 continues to read as follows:

Authority: 41 U.S.C. 1303 and 48 CFR chapter 1.

252.225-7013 [Amended]

3. Amend section 252.225-7013 by removing the clause date of “(MAR 2020)” and adding “(APR 2020)” in its place.

[FR Doc. 2020-11755 Filed 6-4-20; 8:45 am]

BILLING CODE 5001-06-P